DEPARTMENT OF HEALTH AND HUMAN SERVICES

Centers for Disease Control and Prevention

[30DAY-11-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Reader Evaluations of Public Health Assessments and Other Products (OMB No. 0923-0016)—Reinstatement with change—The Agency for Toxic Substances and Disease Registry (ATSDR) is mandated pursuant to the 1980 Comprehensive Environmental Response Compensation and Liability Act (CERCLA) and its 1986 Amendments, The Superfund Amendments and Reauthorization Act (SARA) to perform health assessments for each facility on the National Priorities List and for releases or facilities where individuals have been exposed to a hazardous substance. In addition, ATSDR provides consultations on health issues relating to exposure to hazardous or toxic substances to officials at the Environmental Protection Agency (EPA), and state and local government. The principal audiences for these products are health professionals at the federal, state, and local levels, staff in public libraries and repositories, interested private sector organizations and groups, and members of the public.

In order to make ATSDR products such as health assessments, consultations, exposure investigations, and fact sheets timely and relevant, ATSDR staff developed a survey questionnaire (OMB No. 0923-0016) to get readers' opinions and evaluations. The survey will be inserted and mailed in each public health assessment. In addition, electronic surveys will be sent to clients and partners requesting ATSDR health consultations and exposure investigations within 1 month following delivery of product or service. The survey collects information on (a) Affiliation of users, (b) timeliness and effectiveness of these products, and (c) practical utility of these products.

The reader evaluation surveys provide important feedback that enables ATSDR staff to maintain the utility, integrity and standards of its products. Gathering client feedback ensures that appropriate information is included in these documents and assists in maintaining medical and scientific usefulness. The information will be used to maintain customer satisfaction with these products. There is no cost to respondents.

Respondents | Number of respondents | Responses/respondent | Average burden/response (in hours) | Total burden (in hours)
Community member reviewing public health assessments | 130 | 1 | 15/60 | 32.5
Environmental regulatory official requesting health consultations | 210 | 1 | 15/60 | 52.5
Community member requesting health consultations | 50 | 1 | 15/60 | 12.5
Community member reviewing public health fact sheets | 750 | 1 | 15/60 | 187.5
Total |  |  |  | 285

Dated: November 27, 2002.
Nancy E. Cheal,
Acting Associate Director for Policy, Planning and Evaluation, Centers for Disease Control and Prevention.

[FR Doc. 02-31926 Filed 12-18-02; 8:45 am]

BILLING CODE 4163-18-P